DEPARTMENT OF JUSTICE

Notice of Lodging of Consent Decree Pursuant to the Clean Air Act

In accordance with Departmental policy, 28 CFR 50.7, notice is hereby given that, on May 13, 2002, a proposed Stipulation of Settlement and Order of Dismissal (the Stipulation and Order) in United States, Allegheny County Health Department and Group Against Smog and Pollution v. LTV Steel Company, Inc. (LTV Steel-Pittsburgh), Civil No. 98-570 (W.D. Pa.), and United States v. LTV Steel Company, Inc. (LTV Steel-Cleveland), Civil No. 1: 98CV3012 (N.D. Ohio), was lodged with the United States District Courts in the Western District of Pennsylvania and the Northern District of Ohio.

The Stipulation and Order resolves claims for civil penalties pursuant to the Clean Air Act arising out of the past operation of LTV Steel facilities in Pittsburgh and Cleveland. Pursuant to the Stipulation and Order, the parties stipulate and agree to entry of a judgment in the LTV Steel-Pittsburgh case as specified below:

a. $3,450,000 in civil penalties to the United States;

b. $2,300,000 in civil penalties to the Allegheny County Health Department; and

c. $100,000 in favor of the Group Against Smog and Pollution (GASP) for an environmental project developed by the Hazelwood Initiative to rejuvenate the Hazelwood, Pennsylvania community;

and in LTV Steel-Cleveland for $1.25 in civil penalties to the United States. On December 29, 2000, LTV Steel filed for bankruptcy protection in In re: LTV Steel Company, Inc. (the LTV Bankruptcy), Bankruptcy No. 00-43866 (N.D. Ohio). The Stipulation and Order also provides that plaintiffs shall have allowed general unsecured claims against LTV Steel for the amounts specified above and that LTV Steel will use its best efforts to obtain approval by the Bankruptcy Court of its entry into the Stipulation and Order. Because of the pendency of the LTV Bankruptcy, it is unclear whether the specified amounts will be available after payments to other, secured creditors.

For thirty (30) days following this publication, the Department of Justice will receive comments relating to the proposed Stipulation and Order. Comments should be addressed to the Assistant Attorney General of the Environment and Natural Resources Division, United States Department of Justice, Post Office Box 7611, Washington, D.C. 20044-7611, and should refer to United States, ACHD and GASP v. LTV Steel Company, Inc., Civil No. 98-570 (W.D. Pa.), and United States v. LTV Steel Company, Inc., Civil No. 1: 98CV3012 (N.D. Ohio), DOJ nos. 90-5-2-1-2193 and 90-7-1-919. Alternatively, because of potential mail delays associated with recent events, comments may be sent by facsimile to (202) 514-4180, with attention to the Environmental Enforcement Section.

The Stipulation and Order may be examined at the offices of the United States Attorney for the Western District of Pennsylvania, 633 U.S. Post Office and Courthouse, Pittsburgh, Pennsylvania 15219, and the offices of the United States Attorney for the Northern District of Ohio, 1800 Bank One Center, 600 Superior Avenue, East, Cleveland, Ohio 44114-2600. A copy of the Stipulation and Order may be obtained by mail from the United States Department of Justice Consent Decree Library, Post Office Box 7611, Washington, D.C. 20044-7611 or by faxing a request to Tonia Fleetwood, fax no. (202) 514-0097, phone confirmation number (202) 514-1547. In requesting a copy, please reference the Stipulation of Settlement and Order of Dismissal in United States, ACHD and GASP v. LTV Steel Company, Inc., Civil No. 98-570 (W.D. Pa.), and United States v. LTV Steel Company, Inc., Civil No. 1: 98CV3012 (N.D. Ohio), DOJ nos. 90-5-2-1-2193 and 90-7-1-919, and enclose a check made payable to the United States Treasury in the amount of $3.75 (25 cents per page reproduction cost).

Bruce S. Gelber,
Chief, Environmental Enforcement Section, Environmental and Natural Resources Division.

[FR Doc. 02-12877 Filed 5-22-02; 8:45 am]

BILLING CODE 4410-15-M